DEPARTMENT OF AGRICULTURE

Food Safety and Inspection Service

[Docket No. FSIS-2014-0047]

Codex Alimentarius Commission: Meeting of the Codex Committee on Residues of Veterinary Drugs in Food

AGENCY: Office of the Under Secretary for Food Safety, USDA.

ACTION: Notice of public meeting and request for comments.

SUMMARY: The Office of the Under Secretary for Food Safety, U.S. Department of Agriculture (USDA), and the Food and Drug Administration (FDA) are sponsoring a public meeting on March 19, 2015. The objective of the public meeting is to provide information and receive public comments on agenda items and draft United States (U.S.) positions that will be discussed at the 22nd Session of the Codex Committee on Residues of Veterinary Drugs in Foods (CCRVDF) of the Codex Alimentarius Commission (Codex), taking place in San Jose, Costa Rica, from April 27-May 1, 2015. The Deputy Under Secretary for Food Safety and the Food and Drug Administration recognize the importance of providing interested parties the opportunity to obtain background information on the 22nd Session of CCRVDF, and to address items on the agenda.

DATES: The public meeting is scheduled for Thursday, March 19, 2015 from 1:00-4:00 p.m.

ADDRESSES: The public meeting will take place at the Jamie L. Whitten Building, United States Department of Agriculture, 1400 Independence Ave., Room 107-A, Washington, DC 20250.

Documents related to the 22nd Session of CCRVDF will be accessible via the World Wide Web at the following address: http://www.codexalimentarius.org/meetings-reports/en/.

Kevin Greenlees, U.S. Delegate to the 22nd Session of the CCRVDF, invites U.S. interested parties to submit their comments electronically to the following email address: Kevin.Greenlees@fda.hhs.gov.

Call In Number: If you wish to participate in the public meeting for the 22nd Session of the CCRVDF, by conference call. Please use the call in number.

Call in Number: 1-888-858-2144.

The participant code will be posted on the Web page below: http://www.fsis.usda.gov/wps/portal/fsis/topics/international-affairs/us-codex-alimentarius/public-meetings.

Registration: Attendees may register by emailing uscodex@fsis.usda.gov by March 14, 2015. Early registration is encouraged because it will expedite entry into the building. The meeting will be held in a Federal building, you should also bring photo identification and plan for adequate time to pass through security screening systems. Attendees that are not able to attend the meeting in-person but wish to participate may do so by phone. Those wishing to participate by phone should check the following link http://www.fsis.usda.gov/wps/portal/fsis/topics/international-affairs/us-codex-alimentarius/public-meetings/public-meetings for the call-in number and participant code when they register for the meeting.

For Further Information About the 22nd Session of the CCRVDF Contact: Kevin Greenlees, Senior Advisor for Science & Policy, Food and Drug Administration, Office of New Animal Drug Evaluation, Center for Veterinary Medicine, 7520 Standish Place, HFV-100, Rockville, MD 20855, Tel: (240) 276-8214, Fax: (240) 276-9538, email: Kevin.Greenlees@fda.hhs.gov.

For Further Information About the Public Meeting Contact: Kenneth Lowery, US CODEX Office, 1400 Independence Ave. SW., Room 4861, Washington, DC 20250, Tel: (202) 690-4042, Fax: (202) 720-3157, email: Kenneth.Lowery@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCRVDF is responsible for determining priorities for the consideration of residues of veterinary drugs in foods, recommending maximum levels of such substances; developing codes of practice as may be required, and considering methods of sampling and analysis for the determination of veterinary drug residues in foods.

The Committee is hosted by the United States of America.

Issues To Be Discussed at the Public Meeting

The following items on the Agenda for the 21st Session of the CCRVDF will be discussed during the public meeting:

• Discussion paper regarding the issues and concerns that impact the ability of the CCRVDF to efficiently perform its work

• Matters referred by the Codex Alimentarius Commission and other Codex Committees

• Matters of Interest arising from FAO/WHO and from the 78th Meeting of the Joint FAO/WHO Expert Committee on Food Additives (JECFA)

• Report of the OIE activities, including the harmonization of technical requirements for registration of veterinary medicinal products (VICH)

• Draft maximum residue levels (MRLs) for monepantel, at Step 7

• Proposed draft MRLs for derquantel, at Step 4

• Proposed draft MRLs for derquantel, emamectin benzoate, ivermectin, lasalocid sodium, and monepantel, at Step 3

• Proposed draft RMRs for dimitridazole, ipronnidazole, metronidazole, and ronidazole, at Step 4

• Draft provisions on establishment of MRLs for honey (for inclusion on the Risk Analysis Principles applied by the CCRVDF)

• Draft Priority list of veterinary drugs requiring evaluation or re-evaluation by JECFA (Report of the Electronic Working Group (EWG) on Priority)

• Alternative approach to move compounds from the database on countries need for MRLs to the JECFA Priority List (Report of the EWG on countries need for MRLs)

• Database on countries needs for MRLs

• Other business and future work.

Each issue listed will be fully described in documents distributed, or to be distributed, by the Secretariat prior to the Meeting. Members of the public may access or request copies of these documents (see ADDRESSES).

Public Meeting

At the March 19, 2015, public meeting, draft U.S. positions on the agenda items will be described and discussed, and attendees will have the opportunity to pose questions and offer comments. Written comments may be offered at the meeting or sent to the U.S. Delegate for the 22nd session of the CCRVDF, Kevin Greenlees (see ADDRESSES). Written comments should state that they relate to activities of the 22nd Session of the CCRVDF.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Done at Washington, DC, on January 9, 2015.
Paulo Almeida,
Acting, U.S. Manager for Codex Alimentarius.

[FR Doc. 2015-00431 Filed 1-13-15; 8:45 am]

BILLING CODE 3410-DM-P